DEPARTMENT OF COMMERCE

Minority Business Development Agency

[Docket No. 000724217-4054-08]

Solicitation of Applications for the Minority Business Development Center (MBDC) Program

AGENCY: Minority Business Development Agency.

ACTION: Notice.

SUMMARY: The Minority Business Development Agency is revising the announcement soliciting competitive applications to operate its Minority Business Development Center (MBDC) Program published on Wednesday, February 11, 2004 (69 FR 6642). The original solicitation is amended to correct the funding level of the Illinois Statewide MBDC.

DATES: The closing date for applications for each MBDC project is March 10, 2004.

MBDA anticipates that awards for the MBDC program will be made with a start date of April 1, 2004. Completed applications for the MBDC program must be (1) mailed (USPS postmark) to the address below; or (2) received by MBDA no later than 5 p.m. Eastern Standard Time. Applications postmarked later than the closing date or received after the closing date and time will not be considered.

ADDRESSES: Applicants must submit one signed original plus two (2) copies of the application. Completed application packages must be submitted to: Office of Business Development, Minority Business Development Center Program Office, Office of Executive Secretariat, HCHB, Room 5063, Minority Business Development Agency, U.S. Department of Commerce, 14th Street and Constitution Avenue, NW., Washington, DC 20230.

If the application is hand-delivered by the applicant or his/her representative, one signed original plus two (2) copies of the application must be delivered to Room 1874, which is located at Entrance #10, 15th Street, NW., between Pennsylvania and Constitution Avenues.

FOR FURTHER INFORMATION CONTACT: For further information, contact the MBDA National Enterprise Center (NEC) for the geographic service area in which the project will be located or visit MBDA's Minority Business Internet Portal (MBDA Portal) at http://www.mbda.gov.

SUPPLEMENTARY INFORMATION: The Minority Business Development Agency revises its announcement soliciting competitive applications to operate its Minority Business Development Center (MBDC) Program published on Wednesday, February 11, 2004 (69 FR 6642) to amend the funding level for the Illinois Statewide MBDC.

On page 6643, a typographical error appears under the heading “Geographic Service Area”. The notice incorrectly states that the cost of performance for each of the two remaining 12-month funding periods from January 1, 2005 to December 31, 2006, is estimated $283,058 and that the Federal amount is $240,599. The application must include a minimum cost share of 15% or $42,459 in non-Federal Contributions. This notice clarifies that the cost of performance for each of the two remaining 12-month funding periods from January 1, 2005 to December 31, 2006, is estimated at $352,941 and that the Federal amount is $300,000 per each 12-month period. The application must include a minimum cost share of 15% or $52,941 in non-Federal contributions.

On page 6643 of the Federal Register notice, the Geographic Service Area for the MBDC Program has been amended to reflect the following changes for the Illinois Statewide MBDC:

Contingent upon the availability of Federal funds, the cost of performance for the first funding period from April 1, 2004 to December 31, 2004 is estimated at $212,293. The total Federal amount is $180,449. The application must include a minimum cost share of 15% or $31,844 in non-Federal contributions. Contingent upon the availability of Federal funds, the cost of performance for each of two (2) remaining 12-month funding periods from January 1, 2005 to December 31, 2006, is estimated at $352,941. The total Federal amount is $300,000. The application must include a minimum cost share of 15% or $52,941 in non-Federal contributions.

All other provisions in the original solicitation published on Wednesday, February 11, 2004 (69 FR 6642) remain the same.

Dated: February 12, 2004.
Juanita E. Berry,
Federal Register Liaison, Minority Business Development Agency.

[FR Doc. 04-3529 Filed 2-18-04; 8:45 am]

BILLING CODE 3510-21-P